INTERNATIONAL TRADE COMMISSION

[Investigation No. 337-TA-617]

In the Matter of Certain Digital Television Products and Certain Products Containing Same and Methods of Using Same; Enforcement Proceeding; Notice of Commission Decision Not To Review an Initial Determination (Order No. 40) Granting a Motion To Terminate the Enforcement Proceeding; Termination of Proceeding

AGENCY: U.S. International Trade Commission.

ACTION: Notice.

SUMMARY: Notice is hereby given that the U.S. International Trade Commission has determined not to review the presiding administrative law judge's (“ALJ”) initial determination granting complainants' motion to withdraw the enforcement complaint in the above-captioned proceeding, and has terminated the enforcement proceeding.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 15, 2007, based on a complaint filed by Funai Electric Co., Ltd. of Japan and Funai Corporation of Rutherford, New Jersey (collectively “Funai”) against several respondents. 72 FR 64240 (2007). The complaint alleged violations of Section 337 of the Tariff Act of 1930, as amended, 19 U.S.C. 1337, in the importation into the United States, the sale for importation, and the sale within the United States after importation of certain digital television products and certain products containing same by reason of infringement of one or more claims of U.S. Patent Nos. 6,115,074 (“the `074 patent”) and 5,329,369.

On April 10, 2009, the Commission terminated its investigation with a finding of violation of Section 337 by reason of infringement of claims 1, 5, and 23 of the `074 patent. 74 FR 17511 (2009). The Commission issued a limited exclusion order prohibiting importation into the United States of certain digital televisions and certain products containing the same that are covered by one or more of claims 1, 5, and 23 of the `074 patent and that are manufactured abroad by or on behalf of, or imported by or on behalf of the respondents in the above referenced investigation.

On September 11, 2009, the Commission instituted an enforcement proceeding based on an enforcement complaint filed by Funai, alleging that certain respondents violated the Commission's limited exclusion order and cease and desist orders. 74 FR 46793.

On May 26, 2010, the Federal Circuit issued a decision that reversed certain Commission findings of infringement by so-called “work-around” products in the underlying investigation and ordered the Commission to take action consistent with its opinion. See Vizio, Inc. v. Int'l Trade Comm'n, 605 F.3d 1330 (Fed. Cir. 2010).

On November 23, 2010, Funai moved to withdraw its enforcement complaint and terminate the enforcement proceeding. No party opposed this motion. The ALJ granted Funai's motion and issued the subject initial determination (“ID”). No petitions for review of the ID were filed.

The Commission has determined not to review the subject ID, and has terminated the enforcement proceeding.

The authority for the Commission's determination is contained in Section 337 of the Tariff Act of 1930, as amended (19 U.S.C. 1337), and in section 210.42-43 of the Commission's Rules of Practice and Procedure (19 CFR 210.42-43).

By order of the Commission.
Issued: December 17, 2010.
Marilyn R. Abbott,
Secretary to the Commission.

[FR Doc. 2010-32214 Filed 12-22-10; 8:45 am]

BILLING CODE 7020-02-PE3.